DEPARTMENT OF TRANSPORTATION

Federal Highway Administration

[4910-RY]

Notice of Final Federal Agency Actions of Proposed Highway/Interchange Improvement in California; Statute of Limitations on Claims

AGENCY: Federal Highway Administration (FHWA), DOT.

ACTION: Notice of statute of limitations on claims.

SUMMARY: The FHWA, on behalf of Caltrans, is issuing this notice to announce actions taken by Caltrans that are final. The actions relate to the proposed interchange improvement project on Interstate 405 (I-405) from Western Avenue to W. 182nd Street in the City of Torrance within the County of Los Angeles, State of California. Those actions grant licenses, permits, and approvals for the project.

DATES: A claim seeking judicial review of the Federal Agency Actions on the highway project will be barred unless the claim is filed on or before December 23, 2016. If the Federal law that authorizes judicial review of a claim provides a time period of less than 150 days for filing such claim, then that shorter time period still applies.

FOR FURTHER INFORMATION CONTACT: For Caltrans: Eduardo Aguilar, Branch Chief, Environmental Planning Division, California Department of Transportation—District 7, 100 South Main Street, Los Angeles California 8 a.m. to 5 p.m., 213-897-8492, eduardo_aguilar@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans, has taken final agency actions subject to 23 U.S.C. 139(l)(1) by issuing licenses, permits, and approvals for the following highway project in the State of California: Caltrans proposes to construct new auxiliary/deceleration lanes on the northbound and southbound I-405 freeway mainline, widen existing on-and-off-ramps, and construct a new, two-lane on-ramp to southbound I-405 from Crenshaw Boulevard. Additionally, Caltrans proposes to widen Crenshaw Boulevard south of the interchange to accommodate a new, exclusive right-turn lane onto the new proposed southbound I-405 on-ramp, widen westbound 182nd Street between the northbound I-405 on-and-off-ramps and Crenshaw Boulevard to accommodate new turn movements and geometrical improvements, and widen the Van Ness Avenue undercrossing at I-405 to accommodate the new auxiliary/deceleration lanes on the freeway mainline. Reconstruction of existing soundwalls, and construction of additional soundwalls and retaining walls along both the northbound and southbound I-405 mainline are also associated with the proposed project improvements. The actions by the Federal agencies, and the laws under which such actions were taken, are described in the Final Initial Study (IS) with Negative Declaration (ND)/Environmental Assessment (EA) with Finding of No Significant Impact (FONSI), approved on June 29, 2016, and in other documents in the FHWA project records. The Final IS/EA with ND/FONSI, and other project records are available by contacting Caltrans at the addresses provided above. The Caltrans Final IS/EA with ND/FONSI can be viewed and downloaded from the project Web site at: http://www.dot.ca.gov/d7/env-docs/docs/29360_IS.EA.fin.track_binder_06.30.2016.pdf, or viewed at public libraries in the project area. This notice applies to all Federal agency decisions as of the issuance date of this notice and all laws under which such actions were taken, including but not limited to:

(1) Council on Environmental Quality regulations;

(2) National Environmental Policy Act (NEPA);

(3) Moving Ahead for Progress in the 21st Century Act (MAP-21);

(4) Department of Transportation Act of 1966;

(5) Federal Aid Highway Act of 1970;

(6) Clean Air Act Amendments of 1990;

(7) Noise Control Act of 1970;

(8) 23 CFR part 772 FHWA Noise Standards, Policies and Procedures;

(9) Department of Transportation Act of 1966, section 4(f);

(10) Clean Water Act of 1977 and 1987;

(11) Endangered Species Act of 1973;

(12) Migratory Bird Treaty Act;

(13) National Historic Preservation Act of 1966, as amended;

(14) Historic Sites Act of 1935; and,

(15) Executive Order 13112, Invasive Species.

(Catalog of Federal Domestic Assistance Program Number 20.205, Highway Planning and Construction. The regulations implementing Executive Order 12372 regarding intergovernmental consultation on Federal Programs and activities apply to this program.)

Authority: 23 U.S.C. 139(l)(1)

Issued on: July 19, 2016.
Josue M. Yambo,
Senior Transportation Engineer, Federal Highway Administration, California Division.

[FR Doc. 2016-17645 Filed 7-25-16; 8:45 am]

BILLING CODE P